LEGAL SERVICES CORPORATION

Sunshine Act Meeting of the Board of Directors Committee on Provision for the Delivery of Legal Services

TIME AND DATE: The Committee on Provision for the Delivery of Legal Services of the Legal Services Corporation Board of Directors will meet on April 14, 2000. The meeting will begin at 10:00 a.m. and continue until the Committee concludes its agenda.

LOCATION: Marriott Wardman Park Hotel, 2660 Woodley Road, N.W., Washington, DC 20008.

STATUS OF MEETING: Open.

MATTERS TO BE CONSIDERED:

1. Approval of agenda.

2. Report by Robert Gross, of the Corporation's Office of Program Performance, on State Planning.

3. Update by Michael Genz and Glenn Rawdon, of the Corporation's Office of Program Performance, on the Technology Initiatives Grants Process.

4. Report by Michael Genz and Cynthia Schneider, of the Corporation's Office of Program Performance, on the Migrant Workers Legal Services Conference held on March 19-22, 2000, in Boerne, Texas.

5. Consider and act on other business.

6. Public comment.

CONTACT PERSON FOR INFORMATION: Victor M. Fortuno, Vice President for Legal Affairs, General Counsel and Secretary of the Corporation, at (202) 336-8800.

SPECIAL NEEDS: Upon request, meeting notices will be made available in alternate formats to accommodate visual and hearing impairments. Individuals who have a disability and need an accommodation to attend the meeting may notify Shannon Nicko Adaway, at (202) 336-8800.

Dated: April 4, 2000.
Victor M. Fortuno,
Vice President for Legal Affairs, General Counsel and Corporate Secretary.

[FR Doc. 00-8747 Filed 4-5-00; 12:45 pm]

BILLING CODE 7050-01-P